DEPARTMENT OF COMMERCE

National Oceanic and Atmospheric Administration

50 CFR Part 660

[Docket No. 210616-0131]

RIN 0648-BK25

Magnuson-Stevens Act Provisions; Fisheries Off West Coast States; Pacific Coast Groundfish Fishery; 2021 Harvest Specifications for Pacific Whiting, and 2021 Pacific Whiting Tribal Allocation

AGENCY: National Marine Fisheries Service (NMFS), National Oceanic and Atmospheric Administration (NOAA), Commerce.

ACTION: Final rule.

SUMMARY: NMFS issues this final rule to establish the 2021 harvest specifications and management measures for Pacific whiting caught in the U.S. Exclusive Economic Zone off the coasts of Washington, Oregon, and California consistent with the Magnuson-Stevens Fishery Conservation and Management Act, the Pacific Whiting Act of 2006, and other applicable laws. This rule also establishes the 2021 adjusted U.S. Total Allowable Catch (TAC), tribal and non-tribal allocations, and research and bycatch set-asides. These measures are intended to help prevent overfishing, achieve optimum yield, ensure that management measures are based on the best scientific information available and ensure the long-term sustainability of Pacific whiting.

DATES: Effective June 23, 2021.

ADDRESSES: This final rule is accessible via the internet at the Office of the Federal Register website at https://www.federalregister.gov. Background information and documents are available at the NMFS website at https://www.fisheries.noaa.gov and at the Pacific Fishery Management Council's website at http://www.pcouncil.org/.

FOR FURTHER INFORMATION CONTACT: Stacey Miller, phone: 503-231-6290, and email: Stacey.Miller@noaa.gov.

SUPPLEMENTARY INFORMATION:

Background

The transboundary stock of Pacific whiting is managed through the agreement between the Government of the United States of America and the Government of Canada on Pacific Hake/Whiting of 2003, Nov. 21, 2003, Treaties and Other International Act Series (TIAS) 08-625 (Agreement). NMFS issued a proposed rule on February 16, 2021 (86 FR 9473) that describes the Agreement, including the establishment of F-40 percent default harvest rate, the explicit allocation of Pacific whiting coastwide total allowable catch (TAC) to the United States (73.88 percent) and Canada (26.12 percent), the bilateral bodies to implement the terms of the Agreement, including the Joint Management Committee (JMC), and the process used to determine the coastwide TAC under the Agreement. The proposed rule also proposed allocating 17.5 percent of the U.S. TAC of Pacific whiting for 2021 to Pacific Coast Indian tribes that have a treaty right to harvest groundfish, and implementing set-asides (750 metric tons (mt)) for Pacific whiting for research and incidental mortality in other fisheries.

On March 15-17, the JMC and Advisory Panel (AP) met remotely to determine the 2021 coastwide TAC for Pacific whiting, however, they did not reach a bilateral agreement on the coastwide TAC. Given this lack of bilateral agreement, NMFS issued a revised proposed rule (86 FR 23659) on May 4, 2021 that included the 2021 coastwide and U.S. TACs, as determined by NMFS under the Pacific Whiting Act of 2006 (Pacific Whiting Act), and the 2021 non-tribal sector allocation. The revised proposed rule also included the tribal allocation and set asides for research and incidental mortality in other fisheries that was included in the original proposed rule.

This final rule establishes the 2021 Pacific whiting harvest specifications, including the adjusted coastwide TAC of 500,000 mt and the adjusted U.S. TAC of 369,400 mt. The final rule also establishes the 2021 tribal allocation of 17.5 percent of the U.S. TAC (64,645 mt), allocations for the three non-tribal commercial whiting sectors, and set-asides for research and incidental mortality of Pacific whiting as recommended by the Pacific Fishery Management Council (Council). The allocations for Pacific whiting are effective until December 31, 2021.

2021 Pacific Whiting Harvest Specifications

The 2021 JMC and AP met remotely March 15-17, 2021 but did not reach a bilateral agreement on the coastwide TAC. The Agreement does not specify a procedure for when the JMC does not agree on a coastwide TAC. However, the Pacific Whiting Act (16 U.S.C. 7006(c)) identifies procedures for when the JMC does not recommend a final coastwide TAC. The Pacific Whiting Act states that NMFS (as delegated by the Secretary of Commerce) should establish the Pacific whiting TAC, taking into account recommendations from the Pacific whiting treaty bodies, and the Council. The Pacific Whiting Act requires NMFS to base the coastwide TAC decision on the best scientific information available, and use the Agreement's default harvest rate unless scientific information indicates a different rate is necessary to sustain the Pacific whiting resource. The Pacific Whiting Act also requires NMFS to establish the U.S. share of the TAC based on the U.S./Canada percentage split in the Agreement. Finally, the Pacific Whiting Act requires NMFS to make the necessary adjustments to the TAC specified in the Agreement. Paragraph 5 of Article II of the Agreement requires adjustments to the coastwide TAC to account for overages if either U.S. or Canadian catch in the previous year exceeded its individual TAC, or carryovers if U.S. or Canadian catch was less than its individual TAC in the previous year. Both the United States and Canada harvested less than their individual TACs in 2020, therefore carryover is applied to the 2021 individual TACs.

Taking into account the percentage shares for each country (26.12 percent for Canada and 73.88 percent for the United States) and the adjustments for uncaught fish, as required by the Pacific Whiting Act, this final rule announces a final adjusted coastwide TAC of 500,000 mt and a final adjusted TAC for the United States of 369,400 mt (314,320 mt + 55,080 mt carryover adjustment). Following the Act's criteria, NMFS analyzed a range of alternatives in the revised proposed rule (86 FR 23659; May 4, 2021) and determined a final adjusted coastwide TAC of 500,000 mt maintains the sustainability of the Pacific whiting stock and balances the economic needs of coastal communities. This TAC is well below the default level of F-40 percent and is supported by the recommendations from the JMC and its advisory bodies, and is consistent with the best scientific information available, provisions of the Agreement, and the Pacific Whiting Act.

Tribal Allocations

This final rule establishes the tribal allocation of Pacific whiting for 2021 as described in the revised proposed rule (86 FR 23659; May 4, 2021). Since 1996, NMFS has been allocating a portion of the U.S. TAC of Pacific whiting to the tribal fishery. Regulations for the Pacific Coast Groundfish Fishery Management Plan (FMP) specify that the tribal allocation is subtracted from the total U.S. Pacific whiting TAC. The tribal Pacific whiting fishery is managed separately from the non-tribal Pacific whiting fishery and is not governed by limited entry or open access regulations or allocations. NMFS is establishing the 2021 tribal allocation as 64,645 mt (17.5 percent of the U.S. TAC) in this final rule.

In 2009, NMFS, the states of Washington and Oregon, and the tribes with treaty rights to harvest Pacific whiting started a process to determine the long-term tribal allocation for Pacific whiting; however, no long-term allocation has been determined. While new scientific information or discussions with the relevant parties may impact that decision, the best available scientific information to date suggests that 64,645 mt is within the likely range of potential treaty right amounts. As with prior tribal Pacific whiting allocations, this final rule is not intended to establish precedent for future Pacific whiting seasons, or for the determination of the total amount of Pacific whiting to which the Tribes are entitled under their treaty right. Rather, this rule adopts an interim allocation. The long-term tribal treaty amount will be based on further development of scientific information and additional coordination and discussion with and among the coastal tribes and the states of Washington and Oregon.

Harvest Guidelines and Allocations

This final rule establishes the fishery harvest guideline (HG), also called the non-tribal allocation, as described in the revised proposed rule published on May 4, 2021 (86 FR 23659). The 2021 fishery HG for Pacific whiting is 304,005 mt. This amount was determined by deducting the 64,645 mt tribal allocation and the 750 mt allocation for scientific research catch and fishing mortality in non-groundfish fisheries from the total U.S. TAC of 369,400 mt. The Council recommends the research and bycatch set-aside on an annual basis, based on estimates of scientific research catch and estimated bycatch mortality in non-groundfish fisheries. The regulations further allocate the fishery HG among the three non-tribal sectors of the Pacific whiting fishery: The catcher/processor (C/P) Coop Program, the Mothership (MS) Coop Program, and the Shorebased Individual Fishing Quota (IFQ) Program. The C/P Coop Program is allocated 34 percent (103,362 mt for 2021), the MS Coop Program is allocated 24 percent (72,961 mt for 2021), and the Shorebased IFQ Program is allocated 42 percent (127,682 mt for 2021). The fishery south of 42° N lat. may not take more than 6,384 mt (5 percent of the Shorebased IFQ Program allocation) prior to May 15, the start of the primary Pacific whiting season north of 42° N lat.

Table 1—2021 U.S. Pacific Whiting Total Allowable Catch and Allocations in Metric Tons
| 2021 Pacific whiting harvest specifications (mt)
Adjusted U.S. TAC | 369,400
Tribal | 64,645
Catcher/Processor (C/P) Coop Program | 103,362
Mothership (MS) Coop Program | 72,961
Shorebased IFQ Program | 127,682

Comments and Responses

NMFS issued a proposed rule on February 16, 2021 (86 FR 9473) that proposed allocating 17.5 percent of the U.S. TAC of Pacific whiting for 2021 to Pacific Coast Indian tribes that have a treaty right to harvest groundfish, and implement set-asides (750 mt) for Pacific whiting for research and incidental mortality in other fisheries. The comment period on the proposed rule closed on March 18, 2021. NMFS did not receive any public comments. On May 4, 2021, NMFS issued a revised proposed rule to include additional actions due to the lack of a bilateral agreement on the 2021 Pacific whiting coastwide TAC by the JMC under the Agreement. The revised proposed rule included the 2021 adjusted coastwide TAC and U.S. TAC for Pacific whiting as determined by NMFS under the Pacific Whiting Act, the non-tribal sector allocations, and the tribal allocation and set-asides included in the original proposed rule. We requested public comment on these proposed actions through May 19, 2021 but received no public comments during the comment period.

Changes From the Proposed Rule

NMFS has not made any changes to the proposed regulatory text and there are no substantive changes from the revised proposed rule.

Classification

The Administrator, West Coast Region, NMFS, determined that the final rule is necessary for the conservation and management of the Pacific whiting and that it is consistent with section 304(b)(1)(A) and 305(d), and other provisions of the Magnuson-Stevens Fishery Conservation and Management Act, the Pacific Coast Groundfish FMP, and other applicable laws.

Pursuant to 5 U.S.C. 553(d)(3), the NMFS Assistant Administrator finds good cause to waive the 30-day delay in the date of effectiveness for this final rule because such a delay would be contrary to the public interest. If this final rule were delayed by 30 days, Pacific coast whiting fishermen would not be able to fish under the final catch limits for Pacific whiting for that time period, and not be able to realize the full level of economic opportunity this rule provides. Waiving the 30-day delay in the date of effectiveness will allow this final rule to more fully benefit the fishery through increased fishing opportunities as described in the preamble of this rule.

In addition, because this rule increases catch limits for Pacific whiting compared to the interim allocation the fishery is currently operating under, it therefore also falls within the 5 U.S.C. 553(d)(1) exception to the 30-day delay in the date of effectiveness requirement. The Pacific whiting fishery season began fishing on May 15, 2021 under interim allocations based on the lowest coastwide TAC considered in the revised proposed rule. This final rule implements a higher TAC for Pacific whiting and implementing the rule upon publication provides the whiting fleet more opportunity and greater flexibility to harvest the optimal yield.

Waiving the 30-day delay in effectiveness will not have a negative impact on any entities, as there are no new compliance requirements or other burdens placed on the fishing community with this rule. Making this rule effective immediately would also serve the best interests of the public because it will allow for the longest possible fishing season for Pacific whiting and therefore the best possible economic outcome for those whose livelihoods depend on this fishery. Because the 30-day delay in effectiveness would potentially cause significant financial harm without providing any corresponding benefits, this final rule is effective upon publication in the Federal Register.

The Office of Management and Budget has determined that this proposed rule is not significant for purposes of Executive Order 12866.

A range of potential harvest levels for Pacific whiting have been considered under the Final Environmental Impact Statement for Harvest Specifications and Management Measures for 2015-2016 and Biennial Periods thereafter (2015/16 FEIS). The 2015/16 FEIS examined the harvest specifications and management measures for 2015-16 and 10 year projections for routinely adjusted harvest specifications and management measures. The 10 year projections were produced to evaluate the impacts of the ongoing implementation of harvest specifications and management measures and to evaluate the impacts of the routine adjustments that are the main component of each biennial cycle. The Environmental Assessment for Amendment 29 to the Pacific Coast Groundfish Fishery Management Plan and 2021-22 Harvest Specifications and Management Measures (2021-22 EA) for the 2021-22 cycle tiers from the 2015/16 FEIS and focuses on the harvest specifications and management measures for Pacific coast groundfish stocks that were not within the scope of the 10 year projections in the 2015/16 FEIS. The 2015/16 FEIS and 2021-22 EA are available from NMFS (see ADDRESSES).

Final Regulatory Flexibility Analysis

NMFS published a revised proposed rule on May 4, 2021 (86 FR 23659), for the 2021 Harvest Specifications for Pacific Whiting, and 2021 tribal allocation for Pacific whiting. An Initial Regulatory Flexibility Analysis (IRFA) was prepared and summarized in the Classification section of the preamble to the revised proposed rule. The comment period on the revised proposed rule ended on May 19, 2021. NMFS did not receive any public comments on the revised proposed rule. The Chief Counsel for Advocacy of the Small Business Administration (SBA) did not file any comments on the IRFA or the revised proposed rule. The description of this action, its purpose, and its legal basis are described in the preamble to the revised proposed rule and are not repeated here. A Final Regulatory Flexibility Analysis (FRFA) was prepared and incorporates the IRFA. There were no public comments received on the IRFA. NMFS also prepared a RIR for this action. A copy of the RIR/FRFA is available from NMFS (see ADDRESSES). A summary of the FRFA, per the requirements of 5 U.S.C. 604 follows.

Under the Regulatory Flexibility Act (RFA), the term “small entities” includes small businesses, small organizations, and small governmental jurisdictions. The Small Business Administration has established size criteria for entities involved in the fishing industry that qualify as small businesses. A business involved in fish harvesting is a small business if it is independently owned and operated and not dominant in its field of operation (including its affiliates) and if it has combined annual receipts, not in excess of $11 million for all its affiliated operations worldwide (see 80 FR 81194, December 29, 2015). A wholesale business servicing the fishing industry is a small business if it employs 100 or fewer persons on a full time, part time, temporary, or other basis, at all its affiliated operations worldwide. A small organization is any nonprofit enterprise that is independently owned and operated and is not dominant in its field. Effective February 26, 2016, a seafood processor is a small business if it is independently owned and operated, not dominant in its field of operation, and employs 750 or fewer persons on a full time, part time, temporary, or other basis, at all its affiliated operations worldwide (See NAICS 311710 at 81 FR 4469; January 26, 2016). For purposes of rulemaking, NMFS is also applying the seafood processor standard to catcher processors because whiting C/Ps earn the majority of the revenue from processed seafood product.

A Summary of the Significant Issues Raised by the Public in Response to the IRFA, a Summary of the Agency's Assessment of Such Issues, and a Statement of Any Changes Made in the Final Rule as a Result of Such Comments

No public comments were received on the revised proposed rule.

Description and Estimate of the Number of Small Entities to Which the Rule Applies, and Estimate of Economic Impacts by Entity Size and Industry

This final rule establishes the adjusted coastwide and U.S. TACs and affects how Pacific whiting is allocated to the following sectors/programs: Tribal, Shorebased IFQ Program Trawl Fishery, MS Coop Program Whiting At-sea Trawl Fishery, and C/P Coop Program Whiting At-sea Trawl Fishery. The amount of Pacific whiting allocated to these sectors is based on the adjusted U.S. TAC.

We expect one tribal entity to fish for Pacific whiting in 2021. Tribes are not considered small entities for the purposes of RFA. Impacts to tribes are nevertheless considered in this analysis.

As of January 2021, the Shorebased IFQ Program is composed of 166 Quota Share permits/accounts (134 of which were allocated whiting quota pounds), and 35 first receivers, one of which is designated as whiting-only receivers and 11 that may receive both whiting and non-whiting.

These regulations also directly affect participants in the MS Co-op Program, a general term to describe the limited access program that applies to eligible harvesters and processors in the MS sector of the Pacific whiting at-sea trawl fishery. This program consists of six MS processor permits, and a catcher vessel fleet currently composed of a single co-op, with 34 Mothership/Catcher Vessel (MS/CV) endorsed permits. Three MS/CV permits each have two catch history assignments, and the remaining MS/CV permits each have one catch history assignment.

These regulations also directly affect the C/P Co-op Program, composed of 10 C/P endorsed permits owned by three companies that have formed a single coop. These co-ops are considered large entities from several perspectives; they have participants that are large entities, and have in total more than 750 employees worldwide including affiliates.

Although there are three non-tribal sectors, many companies participate in two sectors and some participate in all three sectors. As part of the permit application processes for the non-tribal fisheries, based on a review of the Small Business Administration size criteria, permit applicants are asked if they considered themselves a “small” business, and they are asked to provide detailed ownership information. Data on employment worldwide, including affiliates, are not available for these companies, which generally operate in Alaska as well as the West Coast and may have operations in other countries as well. NMFS has limited entry permit holders self-report size status. For 2021, all 10 CP permits, 3 MS permits and 8 mothership catcher vessels reported they are not small businesses. There is substantial, but not complete overlap between permit ownership and vessel ownership so there may be a small number of additional small entity vessel owners who will be impacted by this rule. After accounting for cross participation, multiple Quota Share account holders, and affiliation through ownership, NMFS estimates that there are 103 non-tribal entities directly affected by these proposed regulations, 89 of which are considered “small” businesses.

This rule will allocate Pacific whiting between tribal and non-tribal harvesters (a mixture of small and large businesses). Tribal fisheries consist of a mixture of fishing activities that are similar to the activities that non-tribal fisheries undertake. Tribal harvests may be delivered to both shoreside plants and motherships for processing. These processing facilities also process fish harvested by non-tribal fisheries. The effect of the tribal allocation on non-tribal fisheries will depend on the level of tribal harvests relative to their allocation and the reapportionment process. If the tribes do not harvest their entire allocation, there are opportunities during the year to reapportion unharvested tribal amounts to the non-tribal fleets. For example, in 2020 NMFS reapportioned 40,000 mt of the original 74,342 mt tribal allocation. This reapportionment was based on conversations with the tribes and the best information available at the time, which indicated that this amount would not limit tribal harvest opportunities for the remainder of the year. The reapportioning process allows unharvested tribal allocations of Pacific whiting to be fished by the non-tribal fleets, benefitting both large and small entities. The revised Pacific whiting allocations for 2020 following the reapportionment were: Tribal 34,342 mt, C/P Co-op 132,249 mt; MS Co-op 93,352 mt; and Shorebased IFQ Program 163,367 mt.

The prices for Pacific whiting are largely determined by the world market because most of the Pacific whiting harvested in the United States is exported. The U.S. Pacific whiting TAC is highly variable, as have been subsequent harvests and ex-vessel revenues. For the years 2016 to 2020, the total Pacific whiting fishery (tribal and non-tribal) harvested on average 303,782 mt annually. The 2020 U.S. non-tribal fishery had a Pacific whiting catch of approximately 287,400 mt, and the tribal fishery landed less than 200 mt.

Impacts to the U.S. non-tribal fishery are measured with an estimate of ex-vessel revenue. The NMFS proposed adjusted coastwide TAC of 500,000 mt would result in an adjusted U.S. TAC of 369,400 mt and U.S. non-tribal harvest guideline of 304,005 mt. Using the 2020 weighted-average non-tribal Oregon shoreside price per metric ton (e.g. $154 per metric ton), and assuming full utilization, the TAC of 500,000 mt is estimated to result in a projected ex-vessel revenue of $46.9 million for the U.S. non-tribal fishing fleet. The low and high range of the coastwide TAC NMFS considered (475,000 mt and 565,191 mt, respectively) is estimated to result in a projected ex-vessel revenue range of $44.5 million to $53 million, respectively, assuming full utilization of the TAC.

Impacts to tribal catcher vessels who elect to participate in the tribal fishery are measured with an estimate of ex-vessel revenue. In lieu of more complete information on tribal deliveries, total ex-vessel revenue is estimated with the 2020 average non-tribal Oregon shoreside ex-vessel price of Pacific whiting, which was $154 per metric ton. At that price, the 2020 tribal allocation of 64,645 mt would have an ex-vessel value of $10 million.

Description of Projected Reporting, Recordkeeping, and Other Compliance Requirements

There are no reporting, recordkeeping or other compliance requirements in the final rule. No Federal rules have been identified that duplicate, overlap, or conflict with this action.

Description of the Steps the Agency Has Taken To Minimize the Significant Economic Impact on Small Entities Consistent With the Stated Objectives of Applicable Statutes

This action determines the 2021 adjusted coastwide TAC of 500,000 mt, with a corresponding adjusted U.S. TAC of 369,400 mt. NMFS considered a “No Action” alternative as well as a range of alternatives for setting the Pacific whiting coastwide TAC. NMFS considered setting the coastwide TAC between 475,000 mt to 565,191 mt. A coastwide TAC at the bottom of the range (475,000 mt) may provide less economic opportunity for 2021 as compared to a coastwide TAC of 500,000 mt. A higher coastwide TAC of 565,191 mt may offer an increased economic opportunity for 2021 as compared to a coastwide TAC of 500,000 mt. However, the 2021 stock assessment projections indicate this higher catch levels may result in near-term stock biomass declines below target levels. This is contrary to the Pacific Whiting Act and Agreement, which requires sustainable management of the Pacific whiting resource. Under the no action alternative, NMFS would not set a coastwide TAC, which would not fulfill NMFS' responsibility to manage the U.S. fishery. Therefore this alternative received no further consideration.

NMFS considered two alternatives for the Pacific whiting tribal allocation: the “No Action” and the “Proposed Action.” NMFS did not consider a broader range of alternatives to the proposed tribal allocation because the tribal allocation is a percent of the adjusted U.S. TAC and is based primarily on the requests of the tribes. These requests reflect the level of participation in the fishery that will allow them to exercise their treaty right to fish for Pacific whiting.

Under the Proposed Action alternative, NMFS proposes to set the tribal allocation percentage at 17.5 percent, as requested by the Tribes. This would yield a tribal allocation of 64,645 mt for 2021. Consideration of a percentage lower than the tribal request of 17.5 percent is not appropriate in this instance. As a matter of policy, NMFS has historically supported the harvest levels requested by the Tribes. Based on the information available to NMFS, the tribal request is within their tribal treaty rights. A higher percentage would arguably also be within the scope of the treaty right. However, a higher percentage would unnecessarily limit the non-tribal fishery.

Under the no action alternative, NMFS would not make an allocation to the tribal sector. This alternative was considered, but the regulatory framework provides for a tribal allocation on an annual basis only. Therefore, the no action alternative would result in no allocation of Pacific whiting to the tribal sector in 2021, which would be inconsistent with NMFS' responsibility to manage the fishery consistent with the Tribes' treaty rights. Given that there is a tribal request for allocation in 2021, this alternative received no further consideration.

Regulatory Flexibility Act (RFA) Determination of No Significant Impact

NMFS determined this rule does not adversely affect small entities. The reapportioning process allows unharvested tribal allocations of Pacific whiting, fished by small entities, to be fished by the non-tribal fleets, benefitting both large and small entities.

Small Entity Compliance Guide

Section 212 of the Small Business Regulatory Enforcement Fairness Act of 1996 states that, for each rule or group of related rules for which an agency is required to prepare a FRFA, the agency shall publish one or more guides to assist small entities in complying with the rule, and shall designate such publications as “small entity compliance guides.” The agency shall explain the actions a small entity is required to take to comply with a rule or group of rules. A small entity compliance guide will be sent to stakeholders, and copies of the final rule and guides (i.e., information bulletins) are available from NMFS at the following website: https://www.fisheries.noaa.gov/species/pacific-whiting#management.

Consultation and Coordination With Indian Tribal Governments

Pursuant to Executive Order 13175, this final rule was developed after meaningful consultation and collaboration with tribal officials from the area covered by the Pacific Coast Groundfish FMP. Under the Magnuson-Stevens Act at 16 U.S.C. 1852(b)(5), one of the voting members of the Pacific Council must be a representative of an Indian tribe with federally recognized fishing rights from the area of the Council's jurisdiction. In addition, regulations implementing the Pacific Coast Groundfish FMP establish a procedure by which the tribes with treaty fishing rights in the area covered by the Pacific Coast Groundfish FMP request new allocations or regulations specific to the tribes, in writing, before the first of the two meetings at which the Council considers groundfish management measures. The regulations at 50 CFR 660.324(d) further state, the Secretary will develop tribal allocations and regulations under this paragraph in consultation with the affected tribe(s) and, insofar as possible, with tribal consensus. The tribal management measures in this final rule have been developed following these procedures.

With this final rule, NMFS, acting on behalf of the Secretary, determined that the FMP is implemented in a manner consistent with treaty rights of four Treaty Tribes to fish in their “usual and accustomed grounds and stations” in common with non-tribal citizens. United States v. Washington, 384 F. Supp. 313 (W.D. Wash. 1974).

This final rule contains no information collection requirements under the Paperwork Reduction Act of 1995.

List of Subjects in 50 CFR Part 660

Fisheries, Fishing, Indian fisheries.

Dated: June 17, 2021.
Samuel D. Rauch III,
Deputy Assistant Administrator for Regulatory Programs, National Marine Fisheries Service.

For the reasons set out in the preamble, 50 CFR part 660 is amended as follows:

PART 660—FISHERIES OFF WEST COAST STATES

1. The authority citation for part 660 continues to read as follows:

Authority: 16 U.S.C. 1801 et seq., 16 U.S.C. 773 et seq., and 16 U.S.C. 7001 et seq.

2. In § 660.50, revise paragraph (f)(4) to read as follows:

§ 660.50 Pacific Coast treaty Indian fisheries.

* * * * *

(f) * * *

(4) Pacific whiting. The tribal allocation for 2021 is 64,645 mt.

* * * * *

3. Revise Table 1a to part 660, subpart C, to read as follows:

Table 1a to Part 660, Subpart C—2021, Specifications of OFL, ABC, ACL, ACT and Fishery HG (Weights in Metric Tons) Capitalized Stocks Are Rebuilding
Stocks | Area | OFL | ABC | ACL a/ | Fishery HG b/
Yelloweye Rockfish c/ | Coastwide | 97 | 83 | 50 | 41.2
Arrowtooth Flounder d/ | Coastwide | 13,551 | 9,933 | 9,933 | 7,837.9
Big Skate e/ | Coastwide | 1,690 | 1,477 | 1,477 | 1,419.7
Black Rockfish f/ | California (S of 42° N lat) | 379 | 348 | 348 | 345.7
Black Rockfish g/ | Washington (N of 46°16′ N lat) | 319 | 293 | 293 | 274.9
Bocaccio h/ | S of 40°10′ N lat | 1,887 | 1,748 | 1,748 | 1,700.2
Cabezon i/ | California (S of 42° N lat) | 225 | 210 | 210 | 208.7
California Scorpionfish j/ | S of 34°27′ N lat | 319 | 291 | 291 | 287.1
Canary Rockfish k/ | Coastwide | 1,459 | 1,338 | 1,338 | 1,268.6
Chilipepper l/ | S of 40°10′ N lat | 2,571 | 2,358 | 2,358 | 2,260.3
Cowcod m/ | S of 40°10′ N lat | 114 | 84 | 84 | 72.8
Cowcod | (Conception) | 95 | 72 | NA | NA
Cowcod | (Monterey) | 19 | 11 | NA | NA
Darkblotched Rockfish n/ | Coastwide | 953 | 882 | 882 | 862.9
Dover Sole o/ | Coastwide | 93,547 | 84,192 | 50,000 | 48,402.8
English Sole p/ | Coastwide | 11,107 | 9,175 | 9,175 | 8,924.37
Lingcod q/ | N of 40°10′ N lat | 5,816 | 5,386 | 5,369 | 5,090.6
Lingcod r/ | S of 40°10′ N lat | 1,255 | 1,162 | 1,102 | 1,089
Longnose Skate s/ | Coastwide | 2,086 | 1,823 | 1,823 | 1,571.6
Longspine Thornyhead t/ | N of 34°27′ N lat | 5,097 | 3,466 | 2,634 | 2,580.3
Longspine Thornyhead u/ | S of 34°27′ N lat |  |  | 832 | 829.8
Pacific Cod v/ | Coastwide | 3,200 | 1,926 | 1,600 | 1,093.9
Pacific Ocean Perch w/ | N of 40°10′ N lat | 4,497 | 3,854 | 3,854 | 3,829.3
Pacific Whiting x/ | Coastwide | 565,191 | (x/) | (x/) | 304,005
Petrale Sole y/ | Coastwide | 4,402 | 4,115 | 4,115 | 3,727.5
Sablefish z/ | N of 36° N lat | 9,402 | 8,791 | 6,892 | See Table 1c
Sablefish aa/ | S of 36° N lat |  |  | 1,899 | 1,871.6
Shortspine Thornyhead bb/ | N of 34°27′ N lat | 3,211 | 2,183 | 1,428 | 1,349.6
Shortspine Thornyhead cc/ | S of 34°27′ N lat |  |  | 756 | 749.3
Spiny Dogfish dd/ | Coastwide | 2,479 | 1,621 | 1,621 | 1,277
Splitnose ee/ | S of 40°10′ N lat | 1,868 | 1,666 | 1,666 | 1,647.6
Starry Flounder ff/ | Coastwide | 652 | 392 | 392 | 343.6
Widow Rockfish gg/ | Coastwide | 15,749 | 14,725 | 14,725 | 14,476.7
Yellowtail Rockfish hh/ | N of 40°10′ N lat | 6,534 | 6,050 | 6,050 | 5,012.5
Stock Complexes
Blue/Deacon/Black Rockfish ii/ | Oregon | 676 | 603 | 603 | 600.7
Cabezon/Kelp Greenling jj/ | Oregon | 215 | 198 | 198 | 197.8
Cabezon/Kelp Greenling kk/ | Washington | 25 | 20 | 20 | 18.0
Nearshore Rockfish North ll/ | N of 40°10′ N lat | 94 | 79 | 79 | 75.9
Nearshore Rockfish South mm/ | S of 40°10′ N lat | 1,232 | 1,016 | 1,016 | 1,011.6
Other Fish nn/ | Coastwide | 286 | 223 | 223 | 201.7
Other Flatfish oo/ | Coastwide | 7,714 | 4,802 | 4,802 | 4,581.1
Shelf Rockfish North pp/ | N of 40°10′ N lat | 1,888 | 1,511 | 1,511 | 1,438.7
Shelf Rockfish South qq/ | S of 40°10′ N lat | 1,842 | 1,439 | 1,438 | 1,305.2
Slope Rockfish North rr/ | N of 40°10′ N lat | 1,862 | 1,595 | 1,595 | 1,529.1
Slope Rockfish South ss/ | S of 40°10′ N lat | 873 | 709 | 709 | 670.1
a/ Annual catch limits (ACLs), annual catch targets (ACTs) and harvest guidelines (HGs) are specified as total catch values.
b/ Fishery HGs means the HG or quota after subtracting Pacific Coast treaty Indian tribes allocations and projected catch, projected research catch, deductions for fishing mortality in non-groundfish fisheries, and deductions for EFPs from the ACL or ACT.
c/ Yelloweye rockfish. The 50 mt ACL is based on the current rebuilding plan with a target year to rebuild of 2029 and an SPR harvest rate of 65 percent. 8.85 mt is deducted from the ACL to accommodate the Tribal fishery (5 mt), EFP catch (0.24 mt), research (2.92 mt), and the incidental open access fishery (0.69 mt) resulting in a fishery HG of 41.2 mt. The non-trawl HG is 37.9 mt. The combined non-nearshore/nearshore HG is 7.9 mt. Recreational HGs are: 9.7 mt (Washington); 8.8 mt (Oregon); and 11.4 mt (California). In addition, the non-trawl ACT is 29.5, and the combined non-nearshore/nearshore ACT is 6.2 mt. Recreational ACTs are: 7.5 mt (Washington), 6.9 (Oregon), and 8.9 mt (California).
d/ Arrowtooth flounder. 2,095.08 mt is deducted from the ACL to accommodate the Tribal fishery (2,041 mt), EFP fishing (0.1 mt), research (12.98 mt) and incidental open access (41 mt), resulting in a fishery HG of 7,837.9 mt.
e/ Big skate. 57.31 mt is deducted from the ACL to accommodate the Tribal fishery (15 mt), EFP fishing (0.1 mt), and research catch (5.49 mt), and incidental open access (36.72 mt), resulting in a fishery HG of 1,419.7 mt.
f/ Black rockfish (California). 2.26 mt is deducted from the ACL to accommodate EFP fishing (1.0 mt), research (0.08 mt), and incidental open access (1.18 mt), resulting in a fishery HG of 345.7 mt.
g/ Black rockfish (Washington). 18.1 mt is deducted from the ACL to accommodate the Tribal fishery (18 mt) and research catch (0.1 mt), resulting in a fishery HG of 274.9 mt.
h/ Bocaccio south of 40°10′ N lat. 47.82 mt is deducted from the ACL to accommodate EFP catch (40 mt), research (5.6 mt), and incidental open access (2.22 mt), resulting in a fishery HG of 1,700.2 mt. The combined non-nearshore and nearshore HG is 320.2 mt. The California recreational fishery HG is 716.2 mt.
i/ Cabezon (California). 1.28 mt is deducted from the ACL to accommodate EFP (1 mt), research (0.02 mt), and incidental open access fishery (0.26 mt), resulting in a fishery HG of 208.7 mt.
j/ California scorpionfish south of 34°27′ N lat. 3.89 mt is deducted from the ACL to accommodate research (0.18 mt) and the incidental open access fishery (3.71 mt), resulting in a fishery HG of 287.1 mt.
k/ Canary rockfish. 69.39 mt is deducted from the ACL to accommodate the Tribal fishery (50 mt), EFP catch (8 mt), and research catch (10.08 mt), and the incidental open access fishery (1.31 mt), resulting in a fishery HG of 1,268.6 mt. The combined nearshore/non-nearshore HG is 126.6 mt. Recreational HGs are: 43.3 mt (Washington); 65.1 mt (Oregon); and 116.7 mt (California).
l/ Chilipepper rockfish south of 40°10′ N lat. 97.7 mt is deducted from the ACL to accommodate EFP fishing (70 mt), research (14.04 mt), the incidental open access fishery (13.66 mt), resulting in a fishery HG of 2,260.3 mt.
m/ Cowcod south of 40°10′ N lat. 11.17 mt is deducted from the ACL to accommodate EFP fishing (1.0 mt), research (10 mt), and incidental open access (0.17 mt), resulting in a fishery harvest guideline of 72.8 mt. A single ACT of 50 mt is being set for the Conception and Monterey areas combined.
n/ Darkblotched rockfish. 19.06 mt is deducted from the ACL to accommodate the Tribal fishery (0.2 mt), EFP catch (0.6 mt), and research catch (8.46 mt), and the incidental open access fishery (9.8 mt) resulting in a fishery HG of 862.9 mt.
o/ Dover sole. 1,597.21 mt is deducted from the ACL to accommodate the Tribal fishery (1,497 mt), EFP fishing (0.1 mt), research (50.84 mt), and incidental open access (49.27 mt), resulting in a fishery HG of 48,402.8 mt.
p/ English sole. 250.63 mt is deducted from the ACL to accommodate the Tribal fishery (200 mt), EFP fishing (0.1 mt), research (8.01 mt), and the incidental open access fishery (42.52 mt), resulting in a fishery HG of 8,924.37 mt.
q/ Lingcod north of 40°10′ N lat. 278.38 mt is deducted from the ACL for the Tribal fishery (250 mt), EFP catch (0.1 mt), research (16.6 mt), and the incidental open access fishery (11.68 mt) resulting in a fishery HG of 5,090.6 mt.
r/ Lingcod south of 40°10′ N lat. 13 mt is deducted from the ACL to accommodate EFP catch (1.5 mt), research (3.19 mt), and incidental open access fishery (8.31 mt), resulting in a fishery HG of 1,089 mt.
s/ Longnose skate. 251.40 mt is deducted from the ACL to accommodate the Tribal fishery (220 mt), EFP catch (0.1 mt), and research catch (12.46 mt), and incidental open access fishery (18.84 mt), resulting in a fishery HG of 1,571.6 mt.
t/ Longspine thornyhead north of 34°27′ N lat. 53.71 mt is deducted from the ACL to accommodate the Tribal fishery (30 mt), research catch (17.49 mt), and the incidental open access fishery (6.22 mt), resulting in a fishery HG of 2,580.3 mt.
u/ Longspine thornyhead south of 34°27′ N lat. 2.24 mt is deducted from the ACL to accommodate research catch (1.41 mt) and the incidental open access fishery (0.8 mt), resulting in a fishery HG of 829.6 mt.
v/ Pacific cod. 506.1 mt is deducted from the ACL to accommodate the Tribal fishery (500 mt), EFP fishing (0.1 mt), research catch (5.47 mt), and the incidental open access fishery (0.53 mt), resulting in a fishery HG of 1,093.9 mt.
w/ Pacific ocean perch north of 40°10′ N lat. 24.73 mt is deducted from the ACL to accommodate the Tribal fishery (9.2 mt), EFP fishing (0.1 mt), research catch (5.39 mt), and the incidental open access fishery (10.04 mt), resulting in a fishery HG of 3,829.3 mt.
x/ Pacific whiting. The 2021 OFL of 565,191 mt is based on the 2021 assessment with an F40 percent of FMSY proxy. The 2021 coastwide adjusted Total Allowable Catch (TAC) is 500,000 mt. The U.S. TAC is 73.88 percent of the coastwide TAC. The 2021 adjusted U.S. TAC is 369,400 mt (314,320 mt unadjusted TAC + 55,080 mt carryover adjustment). From the adjusted U.S. TAC, 64,645 mt is deducted to accommodate the Tribal fishery, and 750 mt is deducted to accommodate research and bycatch in other fisheries, resulting in a 2021 fishery HG of 304,005 mt. The TAC for Pacific whiting is established under the provisions of the Agreement with Canada on Pacific Hake/Whiting and the Pacific Whiting Act of 2006, 16 U.S.C. 7001-7010, and the international exception applies. Therefore, no ABC or ACL values are provided for Pacific whiting.
y/ Petrale sole. 387.54 mt is deducted from the ACL to accommodate the Tribal fishery (350 mt), EFP catch (0.1 mt), research (24.14 mt), and the incidental open access fishery (13.3 mt), resulting in a fishery HG of 3,727.5 mt.
z/ Sablefish north of 36° N lat. This coastwide ACL value is not specified in regulations. The coastwide ACL value is apportioned north and south of 36° N lat., using a rolling 5-year average estimated swept area biomass from the NMFS NWFSC trawl survey, with 78.4 percent apportioned north of 36° N lat. and 21.6 percent apportioned south of 36° N lat. The northern ACL is 6,892 mt and is reduced by 689.2 mt for the Tribal allocation (10 percent of the ACL north of 36° N lat.). The 689.2 mt Tribal allocation is reduced by 1.7 percent to account for discard mortality. Detailed sablefish allocations are shown in Table 1c.
aa/ Sablefish south of 36° N lat. The ACL for the area south of 36° N lat. is 1,899 mt (21.6 percent of the calculated coastwide ACL value). 27.4 mt is deducted from the ACL to accommodate research (2.40 mt) and the incidental open access fishery (25 mt), resulting in a fishery HG of 1,871.6 mt.
bb/ Shortspine thornyhead north of 34°27′ N lat. 78.4 mt is deducted from the ACL to accommodate the Tribal fishery (50 mt), EFP catch (0.1 mt), and research catch (10.48 mt), and the incidental open access fishery (17.82 mt), resulting in a fishery HG of 1,349.6 mt for the area north of 34°27′ N lat.
cc/ Shortspine thornyhead south of 34°27′ N lat. 6.71 mt is deducted from the ACL to accommodate research catch (0.71 mt) and the incidental open access fishery (6 mt), resulting in a fishery HG of 749.3 mt for the area south of 34°27′ N lat.
dd/ Spiny dogfish. 344 mt is deducted from the ACL to accommodate the Tribal fishery (275 mt), EFP catch (1.1 mt), research (34.27 mt), and the incidental open access fishery (33.63 mt), resulting in a fishery HG of 1,277 mt.
ee/ Splitnose rockfish south of 40°10′ N lat. 18.42 mt is deducted from the ACL to accommodate EFP catch (1.5 mt), research (11.17 mt), and the incidental open access fishery (5.75 mt), resulting in a fishery HG of 1,647.6 mt.
ff/ Starry flounder. 48.38 mt is deducted from the ACL to accommodate the Tribal fishery (2 mt), EFP catch (0.1 mt), research (0.57 mt), and the incidental open access fishery (45.71 mt), resulting in a fishery HG of 343.6 mt.
gg/ Widow rockfish. 248.32 mt is deducted from the ACL to accommodate the Tribal fishery (200 mt), EFP catch (28 mt), research (17.27 mt), and the incidental open access fishery (3.05 mt), resulting in a fishery HG of 14,476.7 mt.
hh/ Yellowtail rockfish north of 40°10′ N lat. 1,047.55 mt is deducted from the ACL to accommodate the Tribal fishery (1,000 mt), EFP catch (10 mt), research (20.55 mt), and the incidental open access fishery (7 mt), resulting in a fishery HG of 5,012.5 mt.
ii/ Black rockfish/Blue rockfish/Deacon rockfish (Oregon). 2.32 mt is deducted from the ACL to accommodate the EFP catch (0.5 mt), research (0.08 mt), and the incidental open access fishery (1.74 mt), resulting in a fishery HG of 600.7 mt.
jj/ Cabezon/kelp greenling (Oregon). 0.21 mt is deducted from the ACL to accommodate EFP catch (0.1 mt), research (0.05 mt), and the incidental open access fishery (0.06 mt), resulting in a fishery HG of 197.8 mt.
kk/ Cabezon/kelp greenling (Washington). 2 mt is deducted from the ACL to accommodate the Tribal fishery, therefore the fishery HG is 18 mt.
ll/ Nearshore Rockfish north of 40°10′ N lat. 3.08 mt is deducted from the ACL to accommodate the Tribal fishery (1.5 mt), EFP catch (0.5 mt), research (0.47 mt), and the incidental open access fishery (0.61 mt), resulting in a fishery HG of 75.9 mt. State specific HGs are Washington (18.4 mt), Oregon (22.7 mt), and California (37.6 mt).
mm/ Nearshore Rockfish south of 40°10′ N lat. 4.42 mt is deducted from the ACL to accommodate research catch (2.68 mt) and the incidental open access fishery (2.68 mt), resulting in a fishery HG of 1,011.6 mt.
nn/ Other Fish. The Other Fish complex is comprised of kelp greenling off California and leopard shark coastwide. 21.34 mt is deducted from the ACL to accommodate EFP catch (0.1 mt), research (6.29 mt), and the incidental open access fishery (14.95 mt), resulting in a fishery HG of 201.7 mt.
oo/ Other Flatfish. The Other Flatfish complex is comprised of flatfish species managed in the PCGFMP that are not managed with stock-specific OFLs/ABCs/ACLs. Most of the species in the Other Flatfish complex are unassessed and include: Butter sole, curlfin sole, flathead sole, Pacific sanddab, rock sole, sand sole, and rex sole. 220.89 mt is deducted from the ACL to accommodate the Tribal fishery (60 mt), EFP catch (0.1 mt), research (23.63 mt), and the incidental open access fishery (137.16 mt), resulting in a fishery HG of 4,581.1 mt.
pp/ Shelf Rockfish north of 40°10′ N lat. 72.44 mt is deducted from the ACL to accommodate the Tribal fishery (30 mt), EFP catch (1.5 mt), research (15.32 mt), and the incidental open access fishery (25.62 mt), resulting in a fishery HG of 1,438.66 mt.
qq/ Shelf Rockfish south of 40°10′ N lat. 132.77 mt is deducted from the ACL to accommodate EFP catch (50 mt), research catch (15.1 mt), and the incidental open access fishery (67.67 mt) resulting in a fishery HG of 1,305.2 mt.
rr/ Slope Rockfish north of 40°10′ N lat. 65.89 mt is deducted from the ACL to accommodate the Tribal fishery (36 mt), EFP catch (0.5 mt), and research (10.51 mt), and the incidental open access fishery (18.88 mt), resulting in a fishery HG of 1,529.1 mt.
ss/ Slope Rockfish south of 40°10′ N lat. 38.94 mt is deducted from the ACL to accommodate EFP catch (1 mt), and research (18.21 mt), and the incidental open access fishery (19.73 mt), resulting in a fishery HG of 670.1 mt. Blackgill rockfish has a stock-specific HG for the entire groundfish fishery south of 40°10′ N lat. set equal to the species′ contribution to the ACL. Harvest of blackgill rockfish in all groundfish fisheries south of 40°10′ N lat. counts against this HG of 176.5 mt.

4. Revise Table 1b to part 660, subpart C, to read as follows:

Table 1b to Part 660, Subpart C—2021, Allocations by Species or Species Group
[Weight in metric tons]
Stocks/stock complexes | Area | Fishery HG or ACT a/b/ | Trawl: % | Trawl: Mt | Non-Trawl: % | Non-Trawl: Mt
Yelloweye Rockfish a/ | Coastwide | 41.2 | 8 | 3.3 | 92 | 37.9
Arrowtooth flounder | Coastwide | 7,837.9 | 95 | 7,446 | 5 | 391.9
Big skate a/ | Coastwide | 1,419.7 | 95 | 1,348.7 | 5 | 71
Bocaccio a/ | S of 40°10′ N lat | 1,700.2 | 39 | 663.8 | 60 | 1,036.4
Canary rockfish a/ | Coastwide | 1,268.6 | 72 | 917 | 28 | 351.6
Chilipepper rockfish | S of 40°10′ N lat | 2,260.3 | 75 | 1,695.2 | 25 | 565.1
Cowcod a/ | S of 40°10′ N lat | 50 | 36 | 18 | 64 | 32
Darkblotched rockfish | Coastwide | 862.9 | 95 | 819.8 | 5 | 43.1
Dover sole | Coastwide | 48,402.8 | 95 | 45,982.7 | 5 | 2,420.1
English sole | Coastwide | 8,924.4 | 95 | 8,478.2 | 5 | 446.2
Lingcod | N of 40′10° N lat | 5,090.6 | 45 | 2,290.8 | 55 | 2,799.8
Lingcod a/ | S of 40′10° N lat | 1,089 | 40 | 435.6 | 60 | 653.4
Longnose skate a/ | Coastwide | 1,571.6 | 90 | 1,414.4 | 10 | 157.2
Longspine thornyhead | N of 34°27′ N lat | 2,580.3 | 95 | 2,451.3 | 5 | 129
Pacific cod | Coastwide | 1,093.9 | 95 | 1,039.2 | 5 | 54.7
Pacific ocean perch | N of 40°10′ N lat | 3,829.3 | 95 | 3,637.8 | 5 | 191.5
Pacific whiting c/ | Coastwide | 304,005 | 100 | 304,005 | 0 | 0
Petrale sole a/ | Coastwide | 3,727.9 |  | 3,697.9 |  | 30
Sablefish | N of 36° N lat | NA | See Table 1c
Sablefish | S of 36° N lat | 1,861.6 | 42 | 782.3 | 58 | 1,080.3
Shortspine thornyhead | N of 34°27′ N lat | 1,349.6 | 95 | 1,282.1 | 5 | 67.5
Shortspine thornyhead | S of 34°27′ N lat | 749.3 |  | 50 |  | 699.3
Splitnose rockfish | S of 40°10′ N lat | 1,647.6 | 95 | 1,565.2 | 5 | 82.4
Starry flounder | Coastwide | 343.6 | 50 | 171.8 | 50 | 171.8
Widow rockfish a/ | Coastwide | 14,476.7 |  | 14,076.7 |  | 400
Yellowtail rockfish | N of 40°10′ N lat | 5,012.5 | 88 | 4,411.0 | 12 | 601.5
Other Flatfish | Coastwide | 4581.1 | 90 | 4,123 | 10 | 458.1
Shelf Rockfish a/ | N of 40°10′ N lat | 1,438.7 | 60.2 | 866.1 | 39.8 | 572.6
Shelf Rockfish a/ | S of 40°10′ N lat | 1,305.2 | 12.2 | 159.2 | 87.8 | 1,146
Slope Rockfish | N of 40°10′ N lat | 1,529.1 | 81 | 1,238.6 | 19 | 290.5
Slope Rockfish a/ | S of 40°10′ N lat | 670.1 |  | 526.4 |  | 143.7
a/ Allocations decided through the biennial specification process.
b/ The cowcod fishery harvest guideline is further reduced to an ACT of 50 mt. The non-trawl allocation is further split 50:50 between the commercial and recreational sectors.
c/ Consistent with regulations at § 660.55(i)(2), the commercial harvest guideline for Pacific whiting is allocated as follows: 34 percent for the C/P Coop Program; 24 percent for the MS Coop Program; and 42 percent for the Shorebased IFQ Program. No more than 5 percent of the Shorebased IFQ Program allocation may be taken and retained south of 42° N lat. before the start of the primary Pacific whiting season north of 42° N lat.

5. In § 660.140, revise paragraph (d)(1)(ii)(D) to read as follows:

§ 660.140 Shorebased IFQ Program.

* * * * *

(d) * * *

(1) * * *

(ii) * * *

(D) Shorebased trawl allocations. For the trawl fishery, NMFS will issue QP based on the following shorebased trawl allocations:

Table 1 to Paragraph (d)(1)(ii)(D)
IFQ species | Area | 2021 Shorebased trawl allocation (mt) | 2022 Shorebased trawl allocation (mt)
Yelloweye Rockfish | Coastwide | 3.3 | 3.4
Arrowtooth flounder | Coastwide | 7,376.02 | 5974.77
Bocaccio | South of 40°10′ N lat | 663.75 | 654.38
Canary rockfish | Coastwide | 880.96 | 858.56
Chilipepper | South of 40°10′ N lat | 1,695.2 | 1,621
Cowcod | South of 40°10′ N lat | 18 | 18
Darkblotched rockfish | Coastwide | 743.39 | 694.94
Dover sole | Coastwide | 45,972.65 | 45,972.65
English sole | Coastwide | 8,478.2 | 8,407.9
Lingcod | North of 40°10′ N lat | 2,275.78 | 2,090.83
Lingcod | South of 40°10′ N lat | 435.6 | 463.6
Longspine thornyhead | North of 34°27′ N lat | 2,451.28 | 2,278.38
Pacific cod | Coastwide | 1,039.21 | 1,039.21
Pacific halibut (IBQ) | North of 40°10′ N lat | 69.6 | 69.6
Pacific ocean perch | North of 40°10′ N lat | 3,337.74 | 3,201.94
Pacific whiting | Coastwide | 127,682 | TBD
Petrale sole | Coastwide | 3,692.9 | 3,237.5
Sablefish | North of 36° N lat | 3,139.59 | 2,985.42
Sablefish | South of 36° N lat | 786 | 748
Shortspine thornyhead | North of 34°27′ N lat | 1,212.12 | 1,178.87
Shortspine thornyhead | South of 34°27′ N lat | 50 | 50
Splitnose rockfish | South of 40°10′ N lat | 1,565.20 | 1,531.00
Starry flounder | Coastwide | 171.8 | 171.8
Widow rockfish | Coastwide | 13,600.68 | 12,663.68
Yellowtail rockfish | North of 40°10′ N lat | 4,091.13 | 3,898.4
Other Flatfish complex | Coastwide | 4,088.00 | 4,120.40
Shelf Rockfish complex | North of 40°10′ N lat | 831.07 | 794.56
Shelf Rockfish complex | South of 40°10′ N lat | 159.24 | 158.02
Slope Rockfish complex | North of 40°10′ N lat | 938.58 | 916.71
Slope Rockfish complex | South of 40°10′ N lat | 526.4 | 523.9

* * * * *

[FR Doc. 2021-13150 Filed 6-21-21; 11:15 am]

BILLING CODE 3510-22-P